DEPARTMENT OF AGRICULTURE

Agricultural Marketing Service

7 CFR Part 205

[Doc. No. AMS-NOP-14-0079; NOP-14-05]

RIN 0581-AD44

National Organic Program (NOP); Amendments to the National List of Allowed and Prohibited Substances (Crops, Livestock and Handling); Reopening of Comment Period

AGENCY: Agricultural Marketing Service, USDA.

ACTION: Proposed rule; Reopening of the public comment period.

SUMMARY: The Agricultural Marketing Service (AMS) published a proposed rule in the Federal Register on January 18, 2018, which describes 35 amendments to the National List of Allowed and Prohibited Substances (Crops, Livestock and Handling). The public comment period closed on March 19, 2018. This document reopens the comment period on the proposed rule for an additional 30 days. Multiple stakeholders requested that AMS extend the comment period to provide more time to develop comments on the proposed rule.

DATES: Comments must be received by May 14, 2018.

ADDRESSES: Interested parties may submit written comments on the Amendments to the National List of Allowed and Prohibited Substances (Crops, Livestock and Handling) proposed rule using one of the following methods:

• Federal eRulemaking Portal: http://www.regulations.gov. Follow the instructions for submitting comments.

• Mail: Robert Pooler, Standards Division, National Organic Program, USDA-AMS-NOP, Room 2646-So., Ag Stop 0268, 1400 Independence Ave. SW, Washington, DC 20250-0268.

Instructions: All submissions received must include the docket number AMS-NOP-14-0079; NOP-14-05PR, and/or Regulatory Information Number (RIN) 0581-AD60 for this rulemaking. Commenters should identify the topic and section of the proposed rule to which their comment refers. All commenters should refer to the GENERAL INFORMATION section in the Notice of Proposed Rulemaking for more information on preparing your comments. All comments received will be posted without change to http://www.regulations.gov.

Docket: For access to the docket, including background documents and comments received, go to http://www.regulations.gov. Comments submitted in response to this proposed rule will also be available for viewing in person at USDA-AMS, National Organic Program, Room 2642-South Building, 1400 Independence Ave. SW, Washington, DC, from 9 a.m. to 12 noon and from 1 p.m. to 4 p.m., Monday through Friday (except official Federal holidays). Persons wanting to visit the USDA South Building to view comments received in response to this proposed rule are requested to make an appointment in advance by calling (202) 720-3252.

FOR FURTHER INFORMATION CONTACT: Robert Pooler, Standards Division. Telephone: (202) 720-3252; Fax: (202) 260-9151.

SUPPLEMENTARY INFORMATION: This document reopens the public comment period for the proposed rule published in the Federal Register on January 18, 2018 (83 FR 2498), Amendments to the National List of Allowed and Prohibited Substances (Crops, Livestock and Handling). In the proposed rule, AMS solicits public comments generally and requests comments on specific topics. AMS is reopening the comment period, which ended on March 19, 2018, for 30 days based on multiple stakeholder requests that AMS extend the comment period to provide more time to develop comments on the proposed rule.

AMS is proposing to amend the National List of Allowed and Prohibited Substances by: Changing the use restrictions for seventeen substances allowed for organic production or handling; adding sixteen new substances for use in organic production or handling; listing rotenone as a prohibited substance in organic crop production; and removing ivermectin as an allowed parasiticide for use in organic livestock production.

To submit comments, or access the proposed rule docket, please follow the instructions provided under the ADDRESSES section. If you have questions, consult the person listed under FOR FURTHER INFORMATION CONTACT.

Authority: 7 U.S.C. 6501-6522.

Dated: April 10, 2018.
Bruce Summers,
Acting Administrator, Agricultural Marketing Service.

[FR Doc. 2018-07719 Filed 4-12-18; 8:45 am]

BILLING CODE 3410-02-P